DEPARTMENT OF AGRICULTURE

Submission for OMB Review; Comment Request

January 21, 2010.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Business-Cooperative Service

Title: Business and Industry Guaranteed Loan Making and Loan Servicing—ARRA Funding.

OMB Control Number: 0570-0060.

Summary of Collection: Business and Industry (B&I) Guaranteed Loan Program was legislated in 1972 under Section 310B of the Consolidated Farm and Rural Development Act, as amended (Act). The purpose of the B&I program, as authorized by the Act, is to improve, develop, or finance businesses, industries, employment and improve the economic and environmental climate in rural communities including pollution abatement and control by bolstering the existing private credit structure through the guaranteeing of quality loans made by lending institutions, thereby providing lasting community benefits. The B&I program is administered by Rural Business Service (RBS) through Rural Development State and sub-State Offices serving each State. The American Recovery and Reinvestment Act 2009 (Pub. L. 111-5) (Recovery Act) provided approximately $126,100,000 in supplemental budget authority for the B&I Program.

Need and Use of The Information: To appropriately use these additional Recovery Act funds for guaranteeing B&I loans, necessary information is obtain on rural areas experiencing persistent poverty, outmigration, high unemployment, and under-served and under-represented groups and areas, which are among those areas hardest hit by the current economic crisis. The information is used by RBS loan officers and approval officials to determine program eligibility and to monitor the guaranteed loan portfolio to ensure that the lenders are servicing the loans adequately.

Description of Respondents: Business or other for-profit;

Number of Respondents: 700.

Frequency of Responses: Reporting: Annually and On occasion.

Total Burden Hours: 15,915.

Charlene Parker,
Departmental Information Collection Clearance Officer.

[FR Doc. 2010-1556 Filed 1-26-10; 8:45 am]

BILLING CODE 3410-XT-P